DEPARTMENT OF LABOR

Employment and Training Administration

[TA-W-61,104]

Bay State Circuits, Inc.; Millbury, MA; Notice of Termination of Investigation

Pursuant to Section 221 of the Trade Act of 1974, as amended, an investigation was initiated on March 13, 2007, in response to a worker petition filed by a company official on behalf of workers of Bay State Circuits, Inc., Millbury, Massachusetts.

The petitioner has requested that the petition be withdrawn. Consequently, the investigation has been terminated.

Signed in Washington, DC, this 1st day of May 2007.
Linda G. Poole,
Certifying Officer, Division of Trade Adjustment Assistance.

[FR Doc. E7-8828 Filed 5-8-07; 8:45 am]

BILLING CODE 4510-FN-P